DEPARTMENT OF COMMERCE

National Institutes of Standards and Technology

15 CFR Part 290

[Docket No.: 170526519-7519-01]

RIN 0693-AB64

Hollings Manufacturing Extension Partnership—Amendments to the Terms and Schedule of Financial Assistance

AGENCY: National Institute of Standards and Technology (NIST), United States Department of Commerce.

ACTION: Final rule.

SUMMARY: NIST is issuing a final rule to amend the regulations governing the Hollings Manufacturing Extension Partnership (MEP) program to reflect the current cost sharing requirements for cooperative agreements for the establishment and operation of MEP Centers, consistent with recent amendments to the MEP authorizing statute. Under the revised statute, NIST may provide up to 50 percent of the capital and annual operating and maintenance funds required to establish and support an MEP Center. The regulations are also being amended to remove other cost sharing rules that are not required by the MEP authorizing statute or current program policies.

DATES: This rule is effective June 27, 2017.

FOR FURTHER INFORMATION CONTACT: Anne-Louise Marquis, at (301) 975-3944 or anne-louise.marquis@nist.gov.

SUPPLEMENTARY INFORMATION:

I. Background

The Hollings MEP Program (Program) is a unique program, consisting of centers in each state and Puerto Rico with partnerships at the state, federal, and local levels. Prior to being amended by Section 501(b) of the American Innovation and Competitiveness Act (AICA), Public Law 114-329, the Program statute, 15 U.S.C. 278k, required that NIST provide less than 50 percent of the capital and annual operating and maintenance funds of an MEP Center beginning in the fourth year of a cooperative agreement. The revised statute allows NIST to provide up to 50 percent of the capital and annual operating and maintenance funds required to establish and support an MEP Center. NIST is amending the MEP regulations, specifically 15 CFR 290.4, to implement the revised statute and to eliminate certain limitations on the amounts and sources of MEP Center cost share that are not required by 15 U.S.C. 278k and that do not reflect current MEP Program cost sharing policies.

II. Statutory Authority

NIST is revising 15 CFR 290.4 to ensure it is fully consistent with recent statutory changes to 15 U.S.C. 278k(e)(2) made by section 501(b) of AICA, and to ensure that the cost sharing requirements in 15 CFR 290.4 are consistent with the cost sharing requirements for financial assistance awards contained in 2 CFR part 200 and with current MEP Program cost sharing policies.

III. Regulatory Analysis

Because this final rule is a matter relating to public property, loans, grants, benefits, or contracts, 5 U.S.C. 553 does not apply. See 5 U.S.C. 553(a)(2). Therefore, prior notice and opportunity for public comment are not required under 5 U.S.C. 553, and there is no requirement for a 30-day delay in the effectiveness of this action under 5 U.S.C. 553(d).

Executive Order 12866

This final rule was determined to be not significant for purposes of Executive Order 12866.

Executive Order 13132

This final rule does not contain policies with Federalism implications as defined in Executive Order 13132.

Regulatory Flexibility Act

Because prior notice and opportunity for public comment are not required for this rule by 5 U.S.C. 553, or any other law, the analytical requirements of the Regulatory Flexibility Act, 5 U.S.C. 601 et seq., do not apply.

Paperwork Reduction Act

This proposed rule contains no new collection of information subject to the Paperwork Reduction Act, 44 U.S.C. 3501 et seq.

National Environmental Policy Act

This final rule will not significantly affect the quality of the human environment. Therefore, an environmental assessment or Environmental Impact Statement is not required to be prepared under the National Environmental Policy Act of 1969.

List of Subjects in 15 CFR Part 290

Grant programs, Science and technology, Cooperative agreements.

For the reasons stated in the preamble, NIST is amending 15 CFR part 290 as follows:

PART 290—REGIONAL CENTERS FOR THE TRANSFER OF MANUFACTURING TECHNOLOGY

1. The authority citation for 15 CFR part 290 continues to read as follows:

Authority: 15 U.S.C. 278k.

2. Revise § 290.4 to read as follows:

§ 290.4 Terms and schedule of financial assistance.

The Secretary may provide up to 50 percent of the capital and annual operating and maintenance funds required to establish and support an MEP Center.

Phillip A. Singerman,
Associate Director for Innovations and Industry Services.

[FR Doc. 2017-13423 Filed 6-26-17; 8:45 am]

BILLING CODE 3510-13-P